POSTAL REGULATORY COMMISSION

Sunshine Act Meetings

TIME AND DATE: Wednesday, August 4, 2010 at 11 a.m.

PLACE: Commission hearing room, 901 New York Avenue, NW., Suite 200, Washington, DC 20268-0001.

STATUS: Parts of this meeting will be open to the public. The rest of the meeting will be closed to the public. The public session will be podcast.

MATTERS TO BE CONSIDERED:

PORTIONS OPEN TO THE PUBLIC:

1. Review of postal-related congressional activity.

2. Report on international activities.

3. Review of active cases.

4. Report on recent activites of the Joint Periodicals Task Force and status of the report to the Congress pursuant to secton 708 of the PAEA.

5. Report on public comments and rate and service inquiries.

6. Report on vacancies and positions recently filled.

PORTIONS CLOSED TO THE PUBLIC:

7. Discussion of pending litigation.

8. Discussion of confidential personnel issues involving recruitment.

9. Discussion of contracts involving confidential commercial information.

CONTACT PERSON FOR FURTHER INFORMATION: Stephen L. Sharfman, General Counsel, Postal Regulatory Commission, at 202-789-6820 or stephen.sharfman@prc.gov (for questions concerning the agenda) and Shoshana M. Grove at 202-789-6842 or shoshana.grove@prc.gov (for questions concerning podcasting).

Dated: July 20, 2010.
Shoshana M. Grove,
Secretary.

[FR Doc. 2010-18032 Filed 7-20-10; 11:15 am]

BILLING CODE 7710-FW-S